DEPARTMENT OF ENERGY

Federal Energy Regulatory Commission

[Project No. 2335-039]

Brookfield White Pine Hydro LLC; Notice of Application Accepted for Filing, Soliciting Motions To Intervene and Protests, Ready for Environmental Analysis, and Soliciting Comments, Recommendations, Preliminary Terms and Conditions, and Preliminary Prescriptions

Take notice that the following hydroelectric application has been filed with the Commission and is available for public inspection.

a. Type of Application: New Major License.

b. Project No.: 2335-039.

c. Date filed: December 11, 2015.

d. Applicant: Brookfield White Pine Hydro LLC (White Pine Hydro).

e. Name of Project: Williams Hydroelectric Project (Williams Project).

f. Location: The existing project is located on the Kennebec River in Somerset County, Maine. The project does not occupy federal land.

g. Filed Pursuant to: Federal Power Act, 16 U.S.C. 791(a)-825(r).

h. Applicant Contact: Ms. Kelly Maloney, Manager of Licensing and Compliance, Brookfield White Pine Hydro LLC, 150 Main Street, Lewiston, ME 04240; Telephone: (207) 755-5606.

i. FERC Contact: Amy Chang, (202) 502-8250 or amy.chang@ferc.gov.

j. Deadline for filing motions to intervene, protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2335-039.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description: The Williams Project has a total installed capacity of 13-megawatts (MW). The project's average annual generation is 96,731 megawatt-hours. The power generated by the project is sold on the open market into the regional grid.

The existing project consists of: (1) A 894.7-foot-long, 46.0-foot-high dam that includes: (a) A 202-foot-long, 15-foot-high earth embankment section with a concrete core wall; (b) a 244-foot-long, 32-foot-high stone masonry and concrete spillway section with six 32.5-foot-wide, 20.5-foot-high Tainter gates; (c) a 71.3-foot-long, 19.5-foot-high stone masonry and concrete abutment section; (d) a 203.3-foot-long, 26.5-foot-high stone masonry and concrete stanchion bay section with two 65.9-foot-wide, 17.5-foot-high and one 46.8-foot-wide, 17.5-foot-high stanchion bays; (e) a 27-foot-long, 46-foot-high bulkhead section with a 20.5-foot-wide, 7.0-foot-high surface weir gate and a 6.0-foot-wide, 12.3-foot-high Tainter gate at the upstream end of a 162-foot-long, 14-foot-wide steel-lined sluiceway; (f) a 95.5-foot-wide, 45.5- to 49.4-foot-high intake and powerhouse section with four headgates and two double-bay trashracks with 3.5-inch clear-bar spacing; and (g) a 51.6-foot-long, 10.5-foot-high concrete cut-off wall; (2) a 400-acre impoundment with a gross storage volume of 4,575 acre-feet and a useable storage volume of 2,065 acre-feet at a normal maximum elevation of 320 feet National Geodetic Vertical Datum; (3) a 40.5-foot-wide, 105.5-foot-long concrete powerhouse that is integral with the dam and contains two turbine-generator units rated at 6 and 7 MW; (4) a 6,000-foot-long, 150- to 175-foot-wide excavated tailrace; (5) a 200-foot-long generator lead and a 310-foot-long generator lead that connect the turbine-generator units to the regional grid; and (6) appurtenant facilities.

The Williams Project operates in a store-and-release mode where the impoundment level is fluctuated up to 6 feet on a daily basis to re-regulate inflow from upstream hydroelectric projects, maintain downstream flow, and meet peak demands for hydroelectric generation. The existing license requires an instantaneous minimum flow of 1,360 cubic feet per second, or inflow (whichever is less), in the tailrace. White Pine Hydro proposes to install an upstream eel passage facility, improve a canoe portage, and improve angler access. White Pine Hydro also proposes to remove 375.5 acres of land and water from the existing project boundary because it does not serve a project purpose.

m. A copy of the application is available for review at the Commission in the Public Reference Room or may be viewed on the Commission's Web site at http://www.ferc.gov using the “eLibrary” link. Enter the docket number excluding the last three digits in the docket number field to access the document. For assistance, contact FERC Online Support. A copy of the application is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “PRELIMINARY TERMS AND CONDITIONS,” or “PRELIMINARY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary prescriptions | July 2016.
Commission Issues Environmental Assessment | November 2016.
Comments on Environmental Assessment | December 2016.
Modified terms and conditions | February 2017.

p. Final amendments to the application must be filed with the Commission no later than 30 days from the issuance date of this notice.

q. A license applicant must file no later than 60 days following the date of issuance of the notice of acceptance and ready for environmental analysis provided for in 18 CFR 5.22: (1) A copy of the water quality certification; (2) a copy of the request for certification, including proof of the date on which the certifying agency received the request; or (3) evidence of waiver of water quality certification.

Dated: May 13, 2016.
Kimberly D. Bose,
Secretary.

[FR Doc. 2016-11897 Filed 5-19-16; 8:45 am]

BILLING CODE 6717-01-P